DEPARTMENT OF THE TREASURY

Internal Revenue Service

26 CFR Part 301

[REG-103736-00]

RIN 1545-AX79

Requirement to Maintain List of Investors in Potentially Abusive Tax Shelters; Correction

AGENCY: Internal Revenue Service (IRS), Treasury.

ACTION: Correction to cross-reference notice of proposed rulemaking and notice of public hearing.

SUMMARY: This document contains a correction to a cross-reference notice of proposed rulemaking and notice of public hearing which were published in the Federal Register on Thursday, March 2, 2000 (65 FR 11271), relating to the maintenance of lists of potentially abusive tax shelters described in section 6112.

FOR FURTHER INFORMATION CONTACT: Guy Traynor at (202) 622-7180.

SUPPLEMENTARY INFORMATION:

Background

The regulations that are subject to this correction are under section 6112 of the Internal Revenue Code.

Need for Correction

As published, the regulations [REG-103736-00] contain an error in the preamble that may prove to be misleading and is in need of clarification.

Correction of Publication

Accordingly, the publication of the notice of proposed rulemaking [REG-103736-00], which was the subject of FR Doc. 00-4847, is corrected as follows:

1. On page 1272, column 2, fifth line from the top of the column, the language “June 22, 2000,” is corrected to read “June 20, 2000,”.

Dale D. Goode,
Federal Register Liaison, Assistant Chief Counsel (Corporate).

[FR Doc. 00-7918 Filed 4-3-00; 8:45 am]

BILLING CODE 4830-01-U